DEPARTMENT OF LABOR

Employment and Training Administration

[TA-W-71,863]

United Auto Workers Local 1999, Oklahoma City, OK; Notice of Negative Determination Regarding Application for Reconsideration

By application dated January 20, 2010, workers requested administrative reconsideration of the Department's negative determination regarding eligibility to apply for Trade Adjustment Assistance (TAA), applicable to workers and former workers of United Auto Workers Local 1999, Oklahoma City, Oklahoma (the subject firm). The determination was signed on November 23, 2009. The Notice of determination was published in the Federal Register on January 25, 2010 (75 FR 3939).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination of the petition filed on behalf of workers at United Auto Workers Local 1999, Oklahoma City, Oklahoma, was based on the findings that the workers at the subject firm did not supply services that support the production at the General Motors sport utility vehicle (SUV), Oklahoma City, Oklahoma plant, as alleged in the petition, and are not adversely-affected secondary workers.

In the request for reconsideration, the workers rely solely on the subject firm's relationship with the General Motors SUV plant in Oklahoma City, Oklahoma. Workers at that facility had been certified eligible to apply for TAA under TA-W-63,965 (issued on October 8, 2008). The workers in the request for reconsideration states that “our firm is still operating and servicing General Motors and its workers/retirees” even though the plant at issue was permanently closed in September 2008.

The workers also stated they are seeking TAA certification as secondarily-affected workers because the subject firm “was and is a suppler or downstream producer to the General Motors SUV plant which employed a group of workers who received certification of eligibility under Section 222(a) of the Act.”

The initial investigation by the Department, however, and the documentation of the subject firm's activities which accompanied the request for reconsideration, reveal that the subject firm is not a Supplier or Downstream Producer to the General Motors SUV plant at issue. Specifically, the headings given to the documentation which accompanied the request for reconsideration illustrate that the subject firm did not supply services to the General Motors SUV plant in Oklahoma City, Oklahoma that were directly used in the production of the article that was the basis for certification of TA-W-63,965. For example, under the overall heading of “Advertising, Publicity and Community Awareness” was “Annual Oklahoma State Fair Booth”; “Parades”; “Trade Shows” and under the overall heading of “Employee Classes/Services” was “Pre- and Post-Retirement Classes”; “Job Fair”; and “Calendars.” Other documentation appeared under the headings of “UAW-GM Golf Tournaments” and “Community Service & Charitable Activities.”

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 7th day of October 2010.
Del Min Amy Chen,
Certifying Officer, Office of Trade Adjustment Assistance.

[FR Doc. 2010-26772 Filed 10-22-10; 8:45 am]

BILLING CODE 4510-FN-P